DEPARTMENT OF JUSTICE

Office of Justice Programs

[OJP (NIJ) Docket No. 1658]

Walk-Through Metal Detectors and Hand-Held Metal Detectors Test Method Validation

AGENCY: National Institute of Justice, DOJ.

ACTION: Notice.

SUMMARY: National Institute of Justice has recently developed updated versions of its minimum performance standards for walk-through metal detectors and hand-held metal detectors. In order to ensure that the test methods in the standards are properly documented, NIJ is requesting proposals (including price quotes) for test method validation efforts from testing laboratories. NIJ is also seeking the participation of metal detector manufacturers in this effort to ensure that the test methods are valid and reasonable for metal detectors in the market today. Additional information for these efforts may be found through the National Law Enforcement and Corrections Technology Center's Web site by following the link below: https://www.justnet.org/standards/Metal_Detectors.html.

DATES: Please submit quotes or expressions of interest in participation by 5 p.m. Eastern Time on July 7, 2014.

FOR FURTHER INFORMATION CONTACT: David Otterson by telephone at (301) 240-6754 or by email at david.m.otterson@lmco.com.

Greg Ridgeway,
Acting Director, National Institute of Justice.

[FR Doc. 2014-13513 Filed 6-9-14; 8:45 am]

BILLING CODE 4410-18-P